DEPARTMENT OF AGRICULTURE

Forest Service

National Advisory Committee for Implementation of the National Forest System Land Management Planning Rule

AGENCY: Forest Service, USDA.

ACTION: Notice of meeting.

SUMMARY: The National Advisory Committee for Implementation of the National Forest System Land Management Planning Rule will meet in Arlington, VA, on November 21, 2013. Attendees may also participate via webinar and conference call. The Committee operates in compliance with the Federal Advisory Committee Act (FACA) (Pub. L. 92-463). The purpose of the Committee is to provide advice and recommendations on the implementation of the National Forest System Land Management Planning Rule. The purpose of this meeting is to present finalized recommendations on the Proposed Land Management Planning Directives and to initiate dialogue around the development of a committee work plan to fulfill the Committee's charter. This meeting is open to the public.

DATES: The meeting will be held on Thursday, November 21, 2013, beginning at 9:30 a.m. and ending at 5:30 p.m. Eastern Standard Time.

ADDRESSES: The meeting will be held at the Hyatt Arlington, 1325 Wilson Boulevard, Arlington, VA. Attendees may also participate via webinar and conference call. For anyone who would like to attend via webinar and conference call, please contact Chalonda Jasper at cjasper@fs.fed.us or visit the following Web site: http://www.fs.usda.gov/main/planningrule/committee.

Written comments must be sent to USDA Forest Service, Ecosystem Management Coordination, 201 14th Street SW., Mail Stop 1104, Washington, DC 20250-1104. Comments may also be sent via email to Chalonda Jasper at cjasper@fs.fed.us, or via facsimile to 703-235-0138.

All comments are placed in the record and are available for public inspection and copying, including names and addresses when provided. The public may inspect comments received at 1601 N. Kent Street, Arlington, VA 22209, 6th Floor. Please contact, Chalonda Jasper at 202-260-9400, cjasper@fs.fed.us, to facilitate entry into the building to view comments.

FOR FURTHER INFORMATION CONTACT: Chalonda Jasper, Ecosystem Management Coordination, 202-260-9400, cjasper@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted:

1. Present finalized recommendations;

2. Look back on what has been accomplished by the committee thus far;

3. A forward looking dialogue focused on work plan development; and

4. Administrative tasks.

Further information will be posted on the Planning Rule Advisory Committee Web site at http://www.fs.usda.gov/main/planningrule/committee, including the meeting agenda and webinar and conference call information. A summary of the meeting will be posted at http://www.fs.usda.gov/main/planningrule/committee within 21 days of the meeting.

If you require sign language interpreting, assistive listening devices, or other reasonable accommodation, please submit request prior to the meeting by contacting Chalonda Jasper at 202-260-9400, cjasper@fs.fed.us. All reasonable accommodation requests are managed on a case-by-case basis.

Dated: November 6, 2013.
Tony Tooke,
Associate Deputy Chief, National Forest System.

[FR Doc. 2013-27317 Filed 11-14-13; 8:45 am]

BILLING CODE 3410-11-P